DEPARTMENT OF ENERGY

Federal Energy Regulatory Commission

[Docket No. RP03-542-000]

Texas Eastern Transmission, L.P.; Notice of Informal Settlement Conference

September 16, 2004.

Take notice that an informal settlement conference will be convened in this proceeding commencing at 2 p.m. (e.s.t.) on Wednesday, September 22, 2004, at the office of the Federal Energy Regulatory Commission, 888 First Street, NE., Washington, DC 20426, for the purpose of exploring the possible settlement of the above-reference docket.

Any party, as defined by 18 CFR 385.102(c), or any participant as defined by 18 CFR 385.102(b), is invited to attend. Persons wishing to become a party must move to intervene and receive intervenor status pursuant to the Commission's regulations (18 CFR 385.214).

For additional information, please contact Cynthia Govan at Cynthia.Govan@ ferc.gov (202) 502-8745.

Linda Mitry,
Acting Secretary.

[FR Doc. E4-2326 Filed 9-22-04; 8:45 am]

BILLING CODE 6717-01-P